FEDERAL COMMUNICATIONS COMMISSION

Information Collection Approved by the Office of Management and Budget (OMB)

AGENCY: Federal Communications Commission.

ACTION: Notice.

SUMMARY: The Federal Communications Commission (FCC) has received Office of Management and Budget (OMB) approval for a revision of a currently approved public information collection pursuant to the Paperwork Reduction Act of 1995 (44 U.S.C. 3501-3520). An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Office of the Managing Director, at (202) 418-2918, or email: Cathy.Williams@fcc.gov.

SUPPLEMENTARY INFORMATION:

OMB Control Number: 3060-0600.

OMB Approval Date: August 21, 2014.

OMB Expiration Date: February 28, 2015.

Title: Application to Participate in an FCC Auction, FCC Form 175.

Form Number: FCC Form 175.

Respondents: Business or other for-profit entities, not-for-profit institutions, and state, local or tribal governments.

Estimated Number of Respondents and Responses: 500 respondents and 500 responses.

Estimated Time per Response: 90 minutes.

Frequency of Response: On occasion reporting requirement.

Obligation to Respond: Required to obtain or retain benefits. Statutory authority for the currently approved information collection is contained in sections 154(i) and 309(j)(5) of the Communications Act, as amended, 47 U.S.C. 4(i), 309(j)(5), and sections 1.2105, 1.2110, 1.2112 of the Commission's rules, 47 CFR 1.2105, 1.2110, 1.2112. Authority for the revised information collection is contained in US note 91 in section 2.106 of the Commission's rules, 47 CFR 2.106, US note 91, and section 27.1134(f) of the Commission's rules, 47 CFR 27.1134(f).

Estimated Total Annual Burden: 750 hours.

Total Annual Costs: None.

Nature and Extent of Confidentiality: Information collected on FCC Form 175 is made available for public inspection, and the Commission is not requesting that respondents submit confidential information on FCC Form 175. Respondents seeking to have information collected on FCC Form 175 withheld from public inspection may request confidential treatment of such information pursuant to section 0.459 of the Commission's rules, 47 CFR 0.459.

Privacy Act Impact Assessment: No impact(s).

Needs and Uses: On August 21, 2014, the Commission received OMB approval for a revised information collection which implements US note 91 in section 2.106 of the Commission's rules, 47 CFR 2.106, US note 91, and section 27.1134(f) of the Commission's rules, 47 CFR 27.1134(f) by requiring the submission of a signed acknowledgment with FCC Form 175. The Commission's auction rules and requirements are designed to ensure that the competitive bidding process is limited to serious qualified applicants, deter possible abuse of the bidding and licensing process, and enhance the use of competitive bidding to assign Commission licenses in furtherance of the public interest. The information collected on FCC Form 175 is used by the Commission to determine if an applicant is legally, technically, and financially qualified to participate in a Commission auction. Additionally, if an applicant applies for status as a particular type of auction participant pursuant to Commission rules, the Commission uses information collected on Form 175 to determine whether the applicant is eligible for the status requested. Commission staff reviews the information collected on FCC Form 175 for a particular auction as part of the pre-auction process, prior to the auction being held. Staff determines whether each applicant satisfies the Commission's requirements to participate in the auction and, if applicable, is eligible for the status as a particular type of auction participant it requested. The revised collection will enable the Commission to confirm that an auction applicant understands its specific obligations with respect to Federal incumbent users and systems in the 1755-1780 MHz frequency band should it ultimately become licensed in this band by requiring that applicant to submit a signed acknowledgement with its FCC Form 175 stating that (1) the applicant acknowledges that under 47 CFR 27.1134(f) it must accept any interference from incumbent federal operations in 1755-1780 MHz identified in an approved Transition Plan until such time as these operations vacate the 1755-1780 MHz band in accordance with 47 CFR part 301; (2) the applicant acknowledges that under 47 U.S.C. 2.106, US note 91 it must accept harmful interference from certain incumbent federal systems, including federal earth stations at 25 sites; (3) the applicant accepts the risk that this may pose to any base station or associated equipment that it may deploy; any services it may offer; and any of its other business arrangements; (4) the applicant acknowledges that it understands these risks could potentially affect the value of any licenses in 1755-1780 MHz band and that it has considered these risks before submitting any bids for applicable licenses; and (5) this acknowledgement does not supersede the licensee's rights and obligations specified by law, rule, or other Commission action with respect to these frequencies. The Commission plans to continue to use the FCC Form 175 for all upcoming spectrum auctions, including those required or authorized to be conducted pursuant to the 2012 Spectrum Act, collecting only the information necessary for each particular auction. Thus, the signed acknowledgement that is the subject of this revised collection will not be required for all auctions, and will only be used in auctions of licenses in the 1755-1780 MHz band.

Federal Communications Commission.
Gloria J. Miles,
Federal Register Liaison, Office of the Secretary, Office of the Managing Director.

[FR Doc. 2014-20450 Filed 8-26-14; 8:45 am]

BILLING CODE 6712-01-P